COMMITTEE FOR PURCHASE FROM PEOPLE WHO ARE BLIND OR SEVERELY DISABLED

Procurement List; Addition

AGENCY: Committee for Purchase From People Who Are Blind or Severely Disabled.

ACTION: Addition to the Procurement List.

SUMMARY: This action adds a service to the Procurement List that will be provided by a nonprofit agency employing persons who are blind or have other severe disabilities.

DATES: Date added to the Procurement List: June 17, 2018.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Addition

On 3/16/2018 (83 FR 52), the Committee for Purchase From People Who Are Blind or Severely Disabled published a notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 U.S.C. 8501-8506) in connection with the service proposed for addition to the Procurement List.

The Committee finds good cause to dispense with the 30-day delay in the effective date normally required by the Administrative Procedure Act. See 5 U.S.C. 553(d). This addition to the Committee's Procurement List is effectuated because of the expiration of the U.S. Navy NAVSUP Fleet Logistics Center Norfolk Warehouse Support Service contract. The Federal customer contacted, and has worked diligently with the AbilityOne Program to fulfill this service need under the AbilityOne Program. To avoid performance disruption, and the possibility that the U.S. Navy will refer its business elsewhere, this addition must be effective on June 17, 2018, ensuring timely execution for a June 18, 2018 start date while still allowing 8 days for comments. Pursuant to its own regulation 41 CFR 51-2.4, the Committee has been in contact with one of the affected parties, the incumbent of the expiring contract since May 2017, and determined that no severe adverse impact exists. The Committee also published a notice of proposed Procurement List addition in the Federal Register on March 16, 2018, and did receive comments from the incumbent contractor. The Committee has addressed those comments which are provided in this notice. This addition will not create a public hardship and has limited effect on the public at large, but, rather, will create new jobs for other affected parties—people with significant disabilities in the AbilityOne Program who otherwise face challenges locating employment. Moreover, this addition will enable Federal customer operations to continue without interruption.

End of Certification

Accordingly, the following service is added to the Procurement List:

Service

Service Type: Warehouse Support Service

Mandatory for: NAVSUP Fleet Logistics Center Norfolk, NDW, Supply Management Division, NAVSUP Warehouse, Building 234, 234 Halligan Rd., Annapolis, MD

Mandatory Source of Supply: Richmond Area Association for Retarded Citizens, Richmond, VA

Contracting Activity: Dept of the Navy, NAVSUP FLT Log CTR Norfolk

The U.S. AbilityOne Commission, whose mission is to provide employment opportunities for individuals who are blind or have significant disabilities in the manufacture and delivery of products and services to the Federal Government, received comments from one party with interests in the proposed addition to the Procurement List.

The Commenter objected to the addition of warehouse support service requirements at Navy Supply Warehouse, Annapolis, MD to the Procurement List for three reasons: suitability of the work for the AbilityOne Program, inability of a nonprofit agency to maintain the mandatory overall direct labor hour ratio while performing the warehouse support services requirement, and financial and business impact to the small business incumbent.

The Commenter questioned whether warehouse support services tasks, including inspecting, receiving and processing materials; utilizing material handling equipment (i.e., box truck, fork lifts, etc.); maintaining accurate records; and cleaning the warehouse are tasks suitable for people with significant disabilities. Pursuant to 41 CFR 51-2.4, the Commission conducts a suitability analysis prior to each Procurement List addition. Similar warehouse support service requirements are currently on the Procurement List, and the Commission has historically considered this type of work requirement suitable for the employment of individuals with significant disabilities. The Commission notes several nonprofit agencies currently perform warehouse support services requirements like the Navy Supply Warehouse, Annapolis, MD, in full compliance with the requirements of the AbilityOne Program.

The Commenter also questioned whether a nonprofit agency will be able to maintain the overall direct labor hour ratio requirement of performing 75% of the direct labor hours by people who are blind or significantly disabled. Pursuant to 41 U.S.C. 8501(6), a nonprofit agency in the AbilityOne Program must employ blind or significantly disabled individuals at a level no less than 75% of the agency's overall direct labor hour ratio. The Commission notes that several nonprofit agencies currently perform warehouse support service requirements, like Navy Supply Warehouse, Annapolis, MD, and maintain compliance with the overall 75% direct labor hour requirement.

Finally, the Commenter asserted adverse financial and business impact to its operations should the work requirement be added to the Procurement List. The Commission conducted an analysis of a possible severe adverse impact on the Commenter, the incumbent contractor, in accordance with 41 CFR 51-2.4(a)(4) and concluded there was no severe adverse impact.

Amy Jensen,
Director, Business Operations.

[FR Doc.2018-12387 Filed 6-7-18; 8:45 am]

BILLING CODE 6353-01-P